DEPARTMENT OF COMMERCE

National Oceanic and Atmospheric Administration

Mid-Atlantic Fishery Management Council (MAFMC); Public Hearings

AGENCY: National Marine Fisheries Service (NMFS), National Oceanic and Atmospheric Administration (NOAA), Commerce.

ACTION: Notice of public hearings.

SUMMARY: The Mid-Atlantic Fishery Management Council (Council) will hold public hearings for the Council's Blueline Tilefish Amendment.

DATES: Written comments will be accepted until 11:59 p.m. Wednesday, March 30, 2016. The hearings will be held between March 21, 2016 and March 29, 2016 as described below.

ADDRESSES: Written comments may be sent by any of the following methods:

• Email to the following address: jdidden@mafmc.org; Include “Blueline Tilefish Comments” in the subject line;

• Mail or hand deliver to Dr. Christopher M. Moore, Executive Director, Mid-Atlantic Fishery Management Council, 800 North State Street, Suite 201, Dover, Delaware 19901. Mark the outside of the envelope “Blueline Tilefish Comments”; or

• Fax to (302) 674-5399.

There will be four hearings with the following dates/times/locations:

1. Monday March 21, 2016, 6 p.m. Dare County Administration Building, Commissioners Meeting Room, 954 Marshall C. Collins Drive, Manteo, NC 27954; telephone: (252) 475-5700.

2. Tuesday March 22, 2016, 7 p.m. Hilton Virginia Beach Oceanfront, 3001 Atlantic Ave, Virginia Beach, VA 23451; telephone: (757) 213-3001.

3. Monday, March 28, 2016, 7 p.m. Hilton Suites Oceanfront, 3200 Baltimore Ave., Ocean City, MD 21842; telephone: (410) 289-6444.

4. Tuesday, March 29, 2016, 7 p.m. Hilton Garden Inn Lakewood, 1885 Route 70, Lakewood, NJ 08701; telephone: (732) 262-5232.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The Council has initiated an amendment to the Golden Tilefish Fishery Management Plan to begin management and conservation of blueline tilefish in the Mid-Atlantic. Measures include options for establishing a Mid-Atlantic blueline tilefish unit, establishing status determination criteria, commercial/for-hire/private permitting and reporting, establishment of a monitoring committee, framework adjustment procedures, specification process (including risk policy), commercial/recreational allocations, commercial/recreational trip/possession limits, essential fish habitat designation, and catch accountability measures. A public hearing document will be posted to the Council's Web site, www.mafmc.org, on or before March 14, 2916. The Council will consider the public's comments and testimony at its April 2016 Council Meeting, when it will take final action regarding adding blueline tilefish to the Golden Tilefish Fishery Management Plan.

Special Accommodations

This meeting is physically accessible to people with disabilities. Requests for sign language interpretation or other auxiliary aids should be directed to M. Jan Saunders, (302) 526-5251, at least 5 days prior to the meeting date.

Dated: March 1, 2016.
Tracey L. Thompson,
Acting Deputy Director, Office of Sustainable Fisheries, National Marine Fisheries Service.

[FR Doc. 2016-04858 Filed 3-3-16; 8:45 am]

BILLING CODE 3510-22-P